DEPARTMENT OF COMMERCE

International Trade Administration

[A-351-828]

Notice of Final Results of Antidumping Duty Administrative Review: Certain Hot-Rolled Flat-Rolled Carbon Quality Steel Products From Brazil

AGENCY: Import Administration, International Trade Administration, Department of Commerce.

SUMMARY: On April 6, 2005, the U.S. Department of Commerce (“the Department”) published the preliminary results of administrative review of the antidumping duty order covering certain hot-rolled flat-rolled carbon quality steel products from Brazil. See Certain Hot-Rolled Flat-Rolled Carbon Quality Steel Products from Brazil: Preliminary Results of Antidumping Duty Administrative Review, 70 FR 17406 (April 6, 2005) (“Preliminary Results”). The merchandise covered by this order is certain hot-rolled flat-rolled carbon quality steel from Brazil as described in the “Scope of the Order” section of this notice. The period of review (“POR”) is March 1, 2003, through February 29, 2004. We invited parties to comment on our Preliminary Results. Based on our analysis of the comments received, we made an adjustment to the window period for home market sales. We also made a correction to further manufacturing costs in the United States based upon verification findings. However, the final results do not differ from the preliminary results. The final weighted-average dumping margin for the reviewed firm is listed below in the section entitled “Final Results of Review.”

EFFECTIVE DATE: October 7, 2005.

FOR FURTHER INFORMATION CONTACT: Helen Kramer or Kristin Najdi at (202) 482-0405 or (202) 482-8221, respectively; AD/CVD Operations, Office 7, Import Administration, International Trade Administration, U.S. Department of Commerce, 14th Street & Constitution Avenue, NW., Washington, DC 20230.

SUPPLEMENTARY INFORMATION:

Background

On April 6, 2005, the Department published in the Federal Register its preliminary results in this administrative review. On May 27, 2005, Nucor Corporation (“Nucor”), a domestic interested party in accordance with section 771(9)(C) of the Tariff Act of 1930, as amended (“the Act”), submitted comments. On June 3, 2005, we received a letter from Companhia Siderurgica Nacional (“CSN”), the foreign manufacturer and exporter of the subject merchandise in accordance with section 771(9)(A) of the Act, and Companhia Siderurgica Nacional, LLC (“CSN, LLC”), CSN's U.S. affiliate, responding to Nucor's comments. On July 7-8, 2005, the Department conducted a sales verification of CSN, LLC in Terre Haute, Indiana, followed by a cost verification on July 20-22, 2005. As stated in the Preliminary Results, the briefing schedule was extended due to these verifications. On August 24, 2005, we received a case brief from CSN and CSN, LLC, and on August 25, 2005, we received a case brief from Nucor. As per the Department's request, CSN and CSN, LLC resubmitted their case brief on August 26, 2005, incorporating revised bracketing. We received a rebuttal brief from CSN and CSN, LLC on August 29, 2005, and a rebuttal brief from Nucor on August 30, 2005. We asked Nucor to resubmit a revised rebuttal brief with corrected bracketing, which we received on September 2, 2005. No hearing was requested by the September 2, 2005, deadline given in the Department's August 15, 2005, memorandum advising parties of the briefing schedule. (See Memorandum to the File from Kristin Najdi, Case Analyst: Antidumping Administrative Review of Certain Hot-Rolled Carbon Steel Flat Products from Brazil, Briefing Schedule—Notification of Parties). No public hearing was held.

On July 12, 2005, because it was not practicable to complete the final results of this review within the original time period, the Department published in the Federal Register a notice extending the time limit for completion of the final results of this administrative review in accordance with section 751(a)(3)(A) of the Act. See Notice of Extension of Time Limit for the Final Results of Antidumping Duty Administrative Review: Certain Hot-Rolled Carbon Steel Flat Products from Brazil, 70 FR 39995 (July 12, 2005).

Scope of the Order

For purposes of this order, the products covered are certain hot-rolled flat-rolled carbon-quality steel products of a rectangular shape, of a width of 0.5 inch or greater, neither clad, plated, nor coated with metal and whether or not painted, varnished, or coated with plastics or other non-metallic substances, in coils (whether or not in successively superimposed layers) regardless of thickness, and in straight lengths, of a thickness less than 4.75 mm and of a width measuring at least 10 times the thickness. Universal mill plate (i.e., flat-rolled products rolled on four faces or in a closed box pass, of a width exceeding 150 mm, but not exceeding 1250 mm and of a thickness of not less than 4 mm, not in coils and without patterns in relief) of a thickness not less than 4.0 mm is not included within the scope of this order.

Specifically included in this scope are vacuum degassed, fully stabilized (commonly referred to as interstitial-free (IF)) steels, high strength low alloy (HSLA) steels, and the substrate for motor lamination steels. IF steels are recognized as low carbon steels with micro-alloying levels of elements such as titanium and/or niobium added to stabilize carbon and nitrogen elements. HSLA steels are recognized as steels with micro-alloying levels of elements such as chromium, copper, niobium, titanium, vanadium, and molybdenum. The substrate for motor lamination steels contains micro-alloying levels of elements such as silicon and aluminum.

Steel products to be included in the scope of this order, regardless of the Harmonized Tariff Schedule of the United States (HTSUS) definitions, are products in which: (1) Iron predominates, by weight, over each of the other contained elements; (2) the carbon content is 2 percent or less, by weight; and (3) none of the elements listed below exceeds the quantity, by weight, respectively indicated: 1.80 percent of manganese, or 1.50 percent of silicon, or 1.00 percent of copper, or 0.50 percent of aluminum, or 1.25 percent of chromium, or 0.30 percent of cobalt, or 0.40 percent of lead, or 1.25 percent of nickel, or 0.30 percent of tungsten, or 0.012 percent of boron, or 0.10 percent of molybdenum, or 0.10 percent of niobium, or 0.41 percent of titanium, or 0.15 percent of vanadium, or 0.15 percent of zirconium.

All products that meet the physical and chemical description provided above are within the scope of this order unless otherwise excluded. The following products, by way of example, are outside and/or specifically excluded from the scope of this order:

—Alloy hot-rolled steel products in which at least one of the chemical elements exceeds those listed above (including e.g., ASTM specifications A543, A387, A514, A517, and A506).

—SAE/AISI grades of series 2300 and higher.

—Ball bearing steels, as defined in the HTSUS.

—Tool steels, as defined in the HTSUS.

—Silico-manganese (as defined in the HTSUS) or silicon electrical steel with a silicon level exceeding 1.50 percent.

—ASTM specifications A710 and A736.

—USS Abrasion-resistant steels (USS AR 400, USS AR 500).

—Hot-rolled steel coil which meets the following chemical, physical and mechanical specifications:

[In percent]
C | Mn (max) | P (max) | S (max) | Si | Cr | Cu | Ni (max)
0.10-0.14 | 0.90 | 0.025 | 0.005 | 0.30-0.50 | 0.30-0.50 | 0.20-0.40 | 0.20

Width = 44.80 inches maximum; Thickness = 0.063-0.198 inches; Yield Strength = 50,000 ksi minimum; Tensile Strength = 70,000-88,000 psi.

—Hot-rolled steel coil which meets the following chemical, physical and mechanical specifications:

[In percent]
C | Mn | P (max) | S (max) | Si | Cr | Cu (max) | Ni (max) | MO (max)
0.10-0.16 | 0.70-0.90 | 0.025 | 0.006 | 0.30-0.50 | 0.30-0.50 | 0.25 | 0.20 | .021

Width = 44.80 inches maximum; Thickness = 0.350 inches maximum; Yield Strength = 80,000 ksi minimum; Tensile Strength = 105,000 psi Aim.

—Hot-rolled steel coil which meets the following chemical, physical and mechanical specifications:

[In percent]
C | Mn | P (max) | S (max) | Si | Cr | Cu | Ni (max) | V (wt) (max) | cb (max)
0.10-0.14 | 1.30-1.80 | 0.025 | 0.005 | 0.30-0.50 | 0.50-0.70 | 0.20-0.40 | 0.20 | 0.10 | 0.08

Width = 44.80 inches maximum; Thickness = 0.350 inches maximum; Yield Strength = 80,000 ksi minimum; Tensile Strength = 105,000 psi Aim.

—Hot-rolled steel coil which meets the following chemical, physical and mechanical specifications.

[In percent]
C (max) | Mn (max) | P (max) | S (max) | Si (max) | Cr (max) | Cu (max) | Ni (max) | Nb (min) | CA | AL
0.15 | 1.40 | 0.025 | 0.010 | 0.50 | 1.00 | 0.50 | 0.20 | 0.005 | Treated | 0.01-0.70

Width = 39.37 inches; Thickness = 0.181 inches maximum; Yield Strength = 70,000 psi minimum for thickness ≤ 0.148 inches and 65,000 psi minimum for thicknesses > 0.148 inches; account for 64 FR 38650; Tensile Strength = 80,000 psi minimum.

—Hot-rolled dual phase steel, phase-hardened, primarily with a ferritic-martensitic microstructure, contains 0.9 percent up to and including 1.5 percent silicon by weight, further characterized by either (i) tensile strength between 540 N/mm ² and 640 N/mm ² and an elongation percentage ≥ 26 percent for thicknesses of 2 mm and above, or (ii) a tensile strength between 590 N/mm ² and 690 N/mm ² and an elongation percentage ≥ 25 percent for thicknesses of 2 mm and above.

—Hot-rolled bearing quality steel, SAE grade 1050, in coils, with an inclusion rating of 1.0 maximum per ASTM E 45, Method A, with excellent surface quality and chemistry restrictions as follows: 0.012 percent maximum phosphorus, 0.015 percent maximum sulfur, and 0.20 percent maximum residuals including 0.15 percent maximum chromium.

—Grade ASTM A570-50 hot-rolled steel sheet in coils or cut lengths, width of 74 inches (nominal, within ASTM tolerances), thickness of 11 gauge (0.119 inch nominal), mill edge and skin passed, with a minimum copper content of 0.20%.

The merchandise subject to this order is classified in the HTSUS at subheadings: 7208.10.15.00, 7208.10.30.00, 7208.10.60.00, 7208.25.30.00, 7208.25.60.00, 7208.26.00.30, 7208.26.00.60, 7208.27.00.30, 7208.27.00.60, 7208.36.00.30, 7208.36.00.60, 7208.37.00.30, 7208.37.00.60, 7208.38.00.15, 7208.38.00.30, 7208.38.00.90, 7208.39.00.15, 7208.39.00.30, 7208.39.00.90, 7208.40.60.30, 7208.40.60.60, 7208.53.00.00, 7208.54.00.00, 7208.90.00.00, 7210.70.30.00, 7210.90.90.00, 7211.14.00.30, 7211.14.00.90, 7211.19.15.00, 7211.19.20.00, 7211.19.30.00, 7211.19.45.00, 7211.19.60.00, 7211.19.75.30, 7211.19.75.60, 7211.19.75.90, 7212.40.10.00, 7212.40.50.00, 7212.50.00.00. Certain hot-rolled flat-rolled carbon-quality steel covered by this order, including: vacuum degassed, fully stabilized; high strength low alloy; and the substrate for motor lamination steel may also enter under the following tariff numbers: 7225.11.00.00, 7225.19.00.00, 7225.30.30.50, 7225.30.70.00, 7225.40.70.00, 7225.99.00.90, 7226.11.10.00, 7226.11.90.30, 7226.11.90.60, 7226.19.10.00, 7226.19.90.00, 7226.91.50.00, 7226.91.70.00, 7226.91.80.00, and 7226.99.00.00. Although the HTSUS subheadings are provided for convenience and customs purposes, the written description of the merchandise under this order is dispositive.

Analysis of Comments Received

The issues raised in the case briefs by parties to this administrative review are addressed in the Issues and Decision Memorandum to Joseph A. Spetrini, Acting Assistant Secretary for Import Administration, from Barbara E. Tillman, Acting Deputy Assistant Secretary (“Decision Memorandum”), which is hereby adopted by this notice. A list of the issues addressed in the Decision Memorandum is appended to this notice. The Decision Memorandum is on file in the Central Records Unit in Room B-099 of the main Commerce building, and can also be accessed directly on the Web at http://www.ia.ita.doc.gov/frn. The paper copy and electronic version of the Decision Memorandum are identical in content.

Change Since the Preliminary Results

Based on our analysis of comments received, we made a correction to the window period for home market sales. We also made a correction to further manufacturing costs in the United States based upon verification findings. See the Decision Memorandum.

Final Results of Review

As a result of our review, we determine that the following weighted-average margin exists for the period of March 1, 2003, through February 29, 2004:

Manufacturer/exporter | Weighted-average margin (percentage)
Companhia Siderúrgica Nacional | 0.00

Assessment

The Department will determine, and U.S. Customs and Border Protection (“CBP”) shall assess, antidumping duties on all appropriate entries, pursuant to section 751(a)(1)(B) of the Act and 19 CFR 351.212(b). The Department calculated importer-specific duty assessment rates on the basis of the ratio of the total amount of antidumping duties calculated for the examined sales to the total entered value of the examined sales for that importer. Where the assessment rate is above de minimis, we will instruct CBP to assess duties on all entries of subject merchandise produced by CSN. The Department will issue appropriate assessment instructions directly to CBP within 15 days of publication of these final results of review.

Cash Deposits

The following deposit requirements will be effective upon publication of the final results of this administrative review for all shipments of hot-rolled flat-rolled carbon-quality steel products from Brazil entered, or withdrawn from warehouse, for consumption on or after the publication date of these final results, as provided by section 751(a) of the Act: (1) For the company covered by this review, the cash deposit rate will be the rate listed above; (2) for merchandise exported by producers or exporters not covered in this review but covered in the investigation, the cash deposit rate will continue to be the company-specific rate from the final determination; (3) if the exporter is not a firm covered in this review or the investigation, but the producer is, the cash deposit rate will be that established for the producer of the merchandise in these final results of review or in the final determination; and (4) if neither the exporter nor the producer is a firm covered in this review or the investigation, the cash deposit rate will be 42.12 percent, the “All Others” rate established in the less-than-fair-value investigation. These deposit requirements shall remain in effect until publication of the final results of the next administrative review.

This notice also serves as a final reminder to importers of their responsibility under 19 CFR 351.402 (f) to file a certificate regarding the reimbursement of antidumping duties prior to liquidation of the relevant entries during this review period. Failure to comply with this requirement could result in the Secretary's presumption that reimbursement of antidumping duties occurred, and in the subsequent assessment of double antidumping duties. This notice also is the only reminder to parties subject to administrative protective order (“APO”) of their responsibility concerning the return or destruction of proprietary information disclosed under APO in accordance with 19 CFR 351.305. Timely written notification of the return/destruction of APO materials or conversion to judicial protective order is hereby requested. Failure to comply with the regulations and the terms of an APO is a sanctionable violation.

We are issuing and publishing these results and notice in accordance with sections 751(a)(1) and 777(i)(1) of the Act.

Dated: October 3, 2005.
Joseph A. Spetrini,
Acting Assistant Secretary for Import Administration.

Appendix—Issues in Decision Memorandum

Comment 1: Date of Sale

Comment 2: General and Administrative Expenses

Comment 3: Treatment of Non-Dumped Sales

Comment 4: Expand Cost Reporting Period to Cover the 90/60 Window Period

Comment 5: Window Period for Home Market Sales

[FR Doc. E5-5540 Filed 10-6-05; 8:45 am]

BILLING CODE 3510-DS-P